DEPARTMENT OF THE INTERIOR

Fish and Wildlife Service

Endangered Species Permit Applications

AGENCY: Fish and Wildlife Service.

ACTION: Notice of receipt of permit applications.

SUMMARY: The following applicants have applied for a scientific research permit to conduct certain activities with endangered species pursuant to section 10(a)(1)(A) of the Endangered Species Act of 1973, as amended (16 U.S.C. 1531 et seq.).

Permit No. TE-041668

Applicant: Eric R. Lichtwardt, Sebastopol, California.

The applicant requests a permit to take (harass by survey and nest monitor) the southwestern willow flycatcher (Empidonax traillii extimus) and take (nest monitor) the least Bell's vireo (Vireo bellii pusillus) in conjunction with surveys and population monitoring throughout the species' range in California for the purpose of enhancing their survival.

Permit No. TE-041673

Applicant: Dr. Rachel E. O'Malley, San Jose, California.

This applicant requests a permit to take (capture, handle, and release) the Zayante band-winged grasshopper (Trimerotropis infantilis) in conjunction with scientific research throughout the species' range in California for the purpose of enhancing its survival.

Permit No. TE-814222

Applicant: California Department of Parks and Recreation, San Diego, California.

This applicant requests a permit amendment to take (harass by survey, and locate and monitor nests) the coastal California gnatcatcher (Polioptila californica californica) and the southwestern willow flycatcher (Empidonax traillii extimus) and take (locate and monitor nests) the least Bell's vireo (Vireo bellii pusillus) while conducting survey and population monitoring activities for these species on all California State Park System lands for the purpose of enhancing their survival.

Permit No. TE-844027

Applicant: Deborah House, Bishop, California.

This applicant requested a permit to take (harass by survey) the southwestern willow flycatcher (Empidonax traillii extimus) while conducting presence/absence surveys for this species in Inyo and Mono Counties for the purpose of enhancing its survival.

Permit No. TE-820301

Applicant: Stephen Eugene Leach, Walnut Creek, California.

The applicant requests a permit to take (harass by survey, collect and sacrifice) the Conservancy fairy shrimp (Branchinecta conservatio), longhorn fairy shrimp (Branchinecta longiantenna), San Diego fairy shrimp (Branchinecta sandiegonensis), vernal pool tadpole shrimp (Lepidurus packardi), and Riverside fairy shrimp (Streptocephalus wootoni) throughout each species' range in conjunction with surveys for the purpose of enhancing their survival.

Permit No. TE-042211

Applicant: Steven Lysne, Boise, Idaho.

The applicant requests a permit to take (collect and sacrifice) the Utah valvata snail (Valvata utahensis) from Lake Walcott, Minidoka County, Idaho in conjunction with scientific research for the purpose of enhancing its survival.

Permit No. TE-042064

Applicant: Cecilia L. Meyer, San Diego, California.

The applicant requests a permit to take (survey by pursuit) Quino checkerspot butterfly (Euphydryas editha quino) throughout the species' range in conjunction with surveys for the purpose of enhancing its survival.

Permit No. TE-042065

Applicant: Joseph A. Desarro, Roberts, Montana.

The applicant requests a permit to purchase, in interstate commerce, four female and four male captive bred Hawaiian (=nene) geese (Nesochen [=Branta] sandvicensis) for the purpose of enhancing the species propagation and survival. This notification covers activities conducted by the applicant over the next 5 years.

DATES: Written comments on these permit applications must be received on or before June 18, 2001.

ADDRESSES: Written data or comments should be submitted to the Chief, Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: May 4, 2001.
Rowan W. Gould,
Regional Director, Region 1, Portland, Oregon.

[FR Doc. 01-12522 Filed 5-17-01; 8:45 am]

BILLING CODE 4310-55-P